DEPARTMENT OF ENERGY

Federal Energy Regulatory Commission

Notice of Combined Filings

Take notice that the Commission has received the following Natural Gas Pipeline Rate and Refund Report filings:

Filings Instituting Proceedings

Docket Numbers: RP12-782-000.

Applicants: Atmos Energy Corporation.

Description: Petition for Temporary Waivers and Request for Expedited Action and Shortened Comment Period of Atmos Energy Corporation.

Filed Date: 5/31/12.

Accession Number: 20120531-5400

Comments Due: 5 p.m. ET 6/12/12.

Docket Numbers: RP12-790-000.

Applicants: Eastern Shore Natural Gas Company.

Description: Storage Tracker 06-2012 to be effective 6/1/2012.

Filed Date: 6/5/12.

Accession Number: 20120605-5050.

Comments Due: 5 p.m. ET 6/18/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-739-001.

Applicants: Texas Gas Transmission, LLC.

Description: Amendment to RP12-739-000 to be effective 6/17/2012.

Filed Date: 6/6/12.

Accession Number: 20120606-5012.

Comments Due: 5 p.m. ET 6/18/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: June 6, 2012.
Nathaniel J. Davis, Sr.
Deputy Secretary

[FR Doc. 2012-14320 Filed 6-12-12; 8:45 am]

BILLING CODE 6717-01-P